DEPARTMENT OF AGRICULTURE

Forest Service

Lake Tahoe Basin Federal Advisory Committee (LTFAC)

AGENCY: Forest Service, USDA.

ACTION: Notice of meeting.

SUMMARY: The Lake Tahoe Basin Federal Advisory Committee (Committee) will meet in South Lake Tahoe, CA. The Committee is established consistent with the Federal Advisory Committee Act of 1972. Additional information concerning the Committee, including meeting summary/minutes, can be found by visiting the Committee's Web site at: http://www.fs.usda.gov/goto/ltbmu/LTFAC. The summary/minutes of the meetings will be posted within 21 days of the meetings.

DATES: The meeting will be held on August 26, 2016, from 10:00 to 12:00 p.m. All meetings are subject to cancellation. For updated status of the meeting prior to attendance, please contact the person listed under For Further Information Contact.

ADDRESSES: The meeting will be held at the Forest Service, Lake Tahoe Basin Management Unit, Emerald Bay Conference Room, 35 College Drive, South Lake Tahoe, California. Written comments may be submitted as described under Supplementary Information. All comments, including names and addresses, when provided, are placed in the record and are available for public inspection and copying. The public may inspect comments received at the Forest Service, 35 College Drive, South Lake Tahoe, California. Please call ahead at 530-543-2774 to facilitate entry to the building.

FOR FURTHER INFORMATION CONTACT: Karen Kuentz, Lake Tahoe Basin Management Unit, Forest Service, 35 College Drive, South Lake Tahoe, California 96150, by phone at 530-543-2774, or by email at kkuentz@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of this meeting is to provide:

1. Presentation on past LTFAC SNPLMA project approval

2. Presentation on SNPLMA secondary projects on current list

3. Agreement process for LTFAC

4. LTFAC prep for Lake Tahoe Summit

The meeting is open to the public. Anyone who would like to bring related matters to the attention of the Committee may file written statements with the Committee staff before the meeting. The agenda will include time for people to make oral statements of three minutes or less. Individuals wishing to make an oral statement should submit a request in writing by June 2, 2016. Written comments and time requests for oral comments must be sent to Karen Kuentz, Forest Service, Lake Tahoe Basin Management Unit, 35 College Drive, South Lake Tahoe, California 96150, or by email at kkuentz@fs.fed.us, or via facsimile to 530-543-2693.

Meeting Accommodations: If you are a person requiring reasonable accommodation, please make requests in advance for sign language interpreting, assistive listening devices or other reasonable accommodation for access to the facility or proceedings by contacting the person listed in the section titled For Further Information Contact. All reasonable accommodation requests are managed on a case-by-case basis.

Dated: August 1, 2016.
Jeff Marsolais,
Forest Supervisor.

[FR Doc. 2016-18838 Filed 8-8-16; 8:45 am]

BILLING CODE 3410-11-P